DEPARTMENT OF THE INTERIOR

Bureau of Land Management

[CA-942-5700-BJ-044B]

Filing of Plats of Survey; California

AGENCY: Bureau of Land Management, Interior

ACTION: Notice.

SUMMARY: The purpose of this notice is to inform the public and interested state and local government officials of the latest filing of Plats of Survey in California.

EFFECTIVE DATE: Unless otherwise noted, filing was effective at 10 a.m. on the next federal work day following the plat acceptance date.

FOR FURTHER INFORMATION CONTACT: Lance J. Bishop, Chief, Branch of Geographic Services, Bureau of Land Management (BLM), California State Office, 2800 Cottage Way, Room W-1834, Sacramento, CA 95825; (916) 978-4310.

SUPPLEMENTARY INFORMATION: The plats of Survey of lands described below have been officially filed at the California State Office of the Bureau of Land Management in Sacramento, California.

Humboldt Meridian, California

T. 5 N., R. 1 W.

Supplemental Plat of a portion of the south half of sections 31 and 32, accepted June 27, 2000, to meet certain administrative needs of the BLM, Arcata Field Office.

Ts. 4 and 5 N., R. 1 W.

Dependent resurvey, corrective resurvey, and survey Group 1313, accepted June 27, 2000, to meet certain administrative needs of the BLM, Arcata Field Office.

T. 3 S., R. 2 W.

Dependent resurvey and survey under Group 1302 accepted July 13, 2000, to meet certain administrative needs of the BLM, Arcata Field Office.

T.3 N., R.1 E.

Retracement, corrective dependent resurvey and survey, on two sheets, under Group 1300 accepted September 26, 2000, to meet certain administrative needs of the BLM, Arcata Field Office.

Mount Diablo Meridian, California

T. 27 S., R. 9 E.

Dependent resurvey, and subdivision of sections 1, 12, and 13, under Group 1220, accepted February 23, 2000, to meet certain administrative needs of the BLM, Bakersfield Field Office.

T. 26 S., R. 35 E.

Dependent resurvey and metes-and-bounds survey, on two sheets, under Group 1318, accepted March 3, 2000, to meet certain administrative needs of the BLM, Bakersfield Field Office.

T. 32 N., R. 5 W.

Supplemental plat of a portion of the northwest quarter of section 32, accepted March 21, 2000, to meet certain administrative needs of the BLM, Redding Field Office.

T 21. S., R. 5 E.

Metes-and-bounds survey of tract 38, (Group 1179) accepted March 27, 2000, to meet certain administrative needs of the USDA, Forest Service, Los Padres National Forest.

T. 22 S., R. 38 E.

Supplemental plat of the northwest quarter of section 31, accepted March 29, 2000, to meet certain administrative needs of the BLM, California Desert District, Ridgecrest Field Office.

T. 33 N., R. 9 W.

Supplemental plat of the southeast quarter of section 6, accepted April 4, 2000, to meet certain administrative needs of the BLM, Redding Field Office.

T. 16 N., R. 16 E.

Supplemental plat of the southeast quarter of the northeast quarter section 28 (Group 1314), accepted April 12, 2000, to meet certain administrative needs of the USDA, Forest Service, Tahoe National Forest.

T. 29 N., R. 3 W.

Dependent resurvey and the metes-and-bounds survey of tracts 38 and 39 (Group 1316), accepted April 13, 2000, to meet certain administrative needs of the BLM, Redding Field Office.

T. 14 S., R. 24 E.

Dependent resurvey and metes-and-bounds survey (Group 1341), accepted June 21, 2000, to meet certain administrative needs of the BLM, Bakersfield Field Office.

T 10 S., R. 23 E.,

Supplemental Plat of the northeast quarter of section 24, accepted July 19, 2000, to meet certain administrative needs of the USDA, Forest Service, Sierra National Forrest.

T. 18 S., R. 3 E.

Dependent resurvey and metes-and-bounds survey (Group 1335), accepted September 11, 2000, to meet certain administrative needs of the USDA, Forest Service, Los Padres National Forest.

T. 35 N., R. 1 W.

Dependent resurvey and subdivision of section 29 (Group 1268), accepted September 18, 2000, to meet certain administrative needs of the USDA, Forest Service, Shasta Trinity National Forest.

T. 1 S., R. 31 E.

Dependent resurvey, subdivision and metes-and-bounds survey, accepted September 18, 2000, to meet certain administrative needs of the BLM, Bishop Field Office.

T. 29 N., R. 3 W.

Supplemental Plat, accepted October 5, 2000, to meet certain administrative needs of the BLM, Redding Field Office.

San Bernardino Meridian, California

T. 9 N., R. 13 W.

Supplemental plat of the northeast of section 15, accepted February 11, 2000, to meet certain administrative needs of the BLM, California Desert District, Ridgecrest Field Office.

T. 15 S., R. 1 E.

Dependent resurvey and subdivision (Group 1291), accepted April 25, 2000, to meet certain administrative needs of the BLM, California Desert District, Palm Springs-South Coast Field Office.

Ts. 11 & 12 N., R. 15 W.

Dependent resurvey and metes-and-bounds survey, two plats (Group 1304), accepted July 13, 2000, to meet certain administrative needs of the BLM, Bakersfield Field Office.

T. 5 N., R. 24 E.

Supplemental plat of tract 38 and the protraction of unsurveyed sections, accepted September 6, 2000, to meet certain administrative needs of the BLM, Needles Field Office.

T. 1 N., R. 14 W.

Mete-and-bounds survey in fractional section 31, accepted September 6, 2000, to meet certain administrative needs of the National Park Service, Santa Monica Mountains National Recreation Area.

T., 4 N., R. 14 W.

Amended plat of the dependent resurvey and subdivision (Group 1200), accepted September 6, 2000, to meet certain administrative needs of the USDA, Forest Service, Angeles National Forest.

T. 9 S., R. 22 E.

Dependent resurvey, subdivision, meanders and metes-and-bounds survey (Group 1346), accepted September 29, 2000, to meet certain administrative needs of the BLM, El Centro Field Office.

All of the above listed survey plats are now the basic record for describing the lands for all authorized purposes. The survey plats have been placed in the open files in the BLM, California State Office, and are available to the public as a matter of information. Copies of the survey plats and related field notes will be furnished to the public upon payment of the appropriate fee.

Dated: October 24, 2000.
Lance J. Bishop,
Chief, Branch of Geographic Services.

[FR Doc. 00-29393 Filed 11-15-00; 8:45 am]

BILLING CODE 4310-40-P